ENVIRONMENTAL PROTECTION AGENCY

[SWH-2004-0007, FRL-7672-5]

Agency Information Collection Activities: Proposed Collection; Comment Request; Identification, Listing and Rulemaking Petitions Information Collection Request, EPA ICR Number 1189.14, OMB Control Number 2050-0053

AGENCY: Environmental Protection Agency (EPA).

ACTION: Notice.

SUMMARY: In compliance with the Paperwork Reduction Act (44 U.S.C. 3501 et seq.), this notice announces that EPA is planning to submit a continuing Information Collection Request (ICR) to the Office of Management and Budget (OMB). This is a request to renew an existing approved collection for Identification, Listing, and Rulemaking Petitions (ICR Number 1189.09). In addition, EPA is incorporating the burden associated with the recently published zinc fertilizer rulemaking (see 67 FR 48393; July 24, 2002) into the base ICR 1189.09. The base ICR is scheduled to expire on November 30, 2004. Before submitting the new base ICR 1189.14, which now incorporates the burden from the fertilizer rulemaking, to OMB for review and approval, EPA is soliciting comments on specific aspects of the proposed information collection as described below.

DATES: Comments must be submitted on or before August 9, 2004.

ADDRESSES: Submit your comments, referencing docket ID number RCRA-2004-0007, to EPA online using EDOCKET (our preferred method), by e-mail to RCRA-docket@epa.gov, or by mail to: EPA Docket Center, Environmental Protection Agency, OSWER Docket, mail code 5305T, 1200 Pennsylvania Ave., NW., Washington, DC 20460.

FOR FURTHER INFORMATION CONTACT: Narendra Chaudhari, Office of Solid Waste, 5304W, U.S. Environmental Protection Agency, 1200 Pennsylvania Ave., NW., Washington, DC 20460; telephone number: (703) 308-0454; fax number: (703) 308-0514; e-mail address: chaudhari.narendra@epa.gov.

SUPPLEMENTARY INFORMATION: EPA has established a public docket for this ICR under Docket ID number RCRA-2004-0007, which is available for public viewing at the Office of Solid Waste and Emergency Response (OSWER) Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the OSWER Docket is (202) 566-0270. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, Confidential Business Information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/epadocket.

Affected entities: Entities potentially affected by this action are rulemaking petitioners under 40 CFR 260.20(b), 260.21 and 260.22; owners or operators of facilities requesting variances from classification as a solid waste or for classification as a boiler under 40 CFR 260.30-260.33; generating facilities seeking a hazardous waste exclusion for certain types of wastes under 40 CFR 261.3 and 261.4, including zinc-bearing hazardous secondary materials; and generators and treatment, storage and disposal facilities requesting exemptions from listing as F037 and F038 wastes under 40 CFR 261.31(b)(2)(ii).

Title: Identification, Listing, and Rulemaking Petitions ICR Number 1189.14, expires November 30, 2007.

Abstract: Under 40 CFR 260.20(b), all rulemaking petitioners must submit basic information with their demonstrations, including name, address, and statement of interest in the proposed action. Under § 260.21, all petitioners for equivalent testing or analytical methods must include specific information in their petitions and demonstrate to the satisfaction of the Administrator that the proposed method is equal to, or superior to, the corresponding method in terms of its sensitivity, accuracy, and reproducibility. Under § 260.22, petitions to amend Part 261 to exclude a waste produced at a particular facility (more simply, to delist a waste) must meet extensive informational requirements. When a petition is submitted, the Agency reviews materials, deliberates, publishes its tentative decision in the Federal Register, and requests public comment. EPA also may hold informal public hearings (if requested by an interested person or at the discretion of the Administrator) to hear oral comments on its tentative decision. After evaluating all comments, EPA publishes its final decision in the Federal Register.

40 CFR 260.30-260.31, and 260.33 comprise the standards, criteria, and procedures for variances from classification as a solid waste for three types of materials, materials that are collected speculatively without sufficient amounts being recycled; materials that are reclaimed and then reused within the original primary production process in which they were generated; and materials which have been reclaimed, but must be reclaimed further before the materials are completely recovered. Under 40 CFR 260.32 and 260.33 are regulations governing the procedures and criteria for obtaining a variance for classification as a boiler. This variance is available to owners or operators of enclosed flame combustion devices.

40 CFR 261.3 and 261.4 contain provisions that allow generators to obtain a hazardous waste exclusion for certain types of wastes. Facilities applying for these exclusions must submit a notification, or supporting information and/or keep detailed records. Under § 261.3(a)(2)(iv), generators may obtain a hazardous waste exclusion for wastewater mixtures subject to Clean Water Act regulation. Under § 261.3(c)(2)(ii)(C), generators may obtain an exclusion for certain non-wastewater residues resulting from high temperature metals recovery (HTMR) processing of K061, K062 and F006 waste. Also, under § 261.4(a)(20)(ii)(A), generators and intermediate handlers may obtain a hazardous waste exclusion for zinc-bearing hazardous secondary materials that are to be incorporated into zinc fertilizers. In addition, under § 261.4(b)(6), generators of chromium-containing waste may obtain a hazardous waste exclusion under certain conditions.

Also addressed under this section is the shipment of samples between generators and laboratories for the purpose of testing to determine their characteristics or composition. Sample handlers who are not subject to DOT or USPS shipping requirements must comply with the information requirements of § 261.4(d)(2).

When intended for treatability studies, hazardous waste otherwise subject to regulation under Subtitle C of RCRA is exempted from these regulations, provided that the requirements in § 261.4(e)-(f) are met, including the following information requests: initial notification, record keeping, reporting, and final notification. In addition, generators and collectors of treatability study samples also may request quantity limit increases and time extensions, as specified in § 261.4(e)(3).

40 CFR 261.31(b)(2)(ii) governs procedures and informational requirements for generators and treatment, storage and disposal facilities to obtain exemptions from listing as F037 and F038 wastes. Also under this section are regulations promulgated in 1990 under § 261.35(b) and (c) governing procedures and information requirements for the cleaning or replacement of all process equipment that may have come into contact with chlorophenolic formulations or constituents thereof, including, but not limited to, treatment cylinders, sumps, tanks, piping systems, drip pads, fork lifts, and trams.

EPA anticipates that some data provided by respondents will be claimed as Confidential Business Information (CBI). Respondents may make a business confidentiality claim by marking the appropriate data as CBI. Respondents may not withhold information from the Agency because they believe it is confidential. Information so designated will be disclosed by EPA only to the extent set forth in 40 CFR part 2.

An agency may not conduct or sponsor, and a person is not required to respond to, a collection of information unless it displays a currently valid OMB control number. The OMB control numbers for EPA's regulations are listed in 40 CFR part 9, and in 48 CFR chapter 15.

EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology; e.g., permitting electronic submission of responses.

Burden Statement: Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

EPA estimates the total respondent burden for this ICR (#1189.14) is 20,863 hours per year at a cost of $2,059,217. The burden increased by 61 hours per year at a cost of $12,653 from the previously approved ICR (#1189.09). This increase in the burden is a direct result of incorporating the respondent burden associated with the zinc fertilizer rulemaking into this ICR. EPA estimates a total of approximately 150 respondents. EPA also estimates that operation and maintenance (O&M) costs will be incurred by the respondents for various activities. The largest of these are for sampling wastes for a delisting petition ($28,006), and preparing a statement as part of a rulemaking petition ($9,479). Total O&M costs for this ICR are $886,315 per year. EPA estimates that there will be no capital costs incurred. Finally, EPA estimates that the average annual burden per respondent ranges from 3.5 hours (preparation of a nonwastewater exemption) to 414 hours (preparation of a delisting petition).

Dated: May 28, 2004.
Robert Springer,
Director, Office of Solid Waste.

[FR Doc. 04-13163 Filed 6-9-04; 8:45 am]

BILLING CODE 6560-50-P